DEPARTMENT OF THE INTERIOR

Bureau of Safety and Environmental Enforcement

30 CFR Part 250

[Docket ID: BSEE-2016-0006; EEEE500000 16XE1700DX EX1SF0000.DAQ000]

RIN 1014-AA15

Oil and Gas and Sulphur Operations in the Outer Continental Shelf—Technical Corrections; Correction

AGENCY: Bureau of Safety and Environmental Enforcement (BSEE), Interior.

ACTION: Final rule; correction.

SUMMARY: The Bureau of Safety and Environmental Enforcement (BSEE) is correcting a final rule that appeared in the Federal Register on June 6, 2016 (81 FR 36145).

DATES: Effective July 28, 2016.

FOR FURTHER INFORMATION CONTACT: Betty Cox, Regulations and Standards Branch at (703) 787-1665 or email at regs@bsee.gov.

SUPPLEMENTARY INFORMATION: In the FR Doc. 2016-12487 appearing on page 36150 in the Federal Register of Monday, June 6, 2016, the following correction is made:

§ 250.904 [Corrected]

1. On page 36150, in the first column, remove amendatory instruction 20 correcting § 250.904.

Dated: June 17, 2016.
Robert W. Middleton,
Deputy Chief, Office of Offshore Regulatory Programs.

[FR Doc. 2016-14850 Filed 6-22-16; 8:45 am]

BILLING CODE 4310-VH-P